DEPARTMENT OF TRANSPORTATION

Federal Aviation Administration

14 CFR Part 39

[Docket No. FAA-2016-5464; Directorate Identifier 2015-NM-097-AD]

RIN 2120-AA64

Airworthiness Directives; Dassault Aviation Airplanes

AGENCY: Federal Aviation Administration (FAA), DOT.

ACTION: Notice of proposed rulemaking (NPRM).

SUMMARY: We propose to supersede Airworthiness Directive (AD) 2011-10-01, for all Dassault Aviation Model FALCON 7X airplanes. AD 2011-10-01 currently requires repetitive functional tests of the ram air turbine (RAT) heater and repair if necessary. Since we issued AD 2011-10-01, we received a revision of an airworthiness limitations items (ALI) document, which introduces new and more restrictive maintenance requirements and airworthiness limitations for airplane structures and systems. This proposed AD would require revising the maintenance or inspection program to incorporate new maintenance requirements and airworthiness limitations. We are proposing this AD to prevent reduced structural integrity and reduced control of these airplanes due to the failure of system components.

DATES: We must receive comments on this proposed AD by June 6, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Dassault Falcon Jet Corporation, Teterboro Airport, P.O. Box 2000, South Hackensack, NJ 07606; telephone: 201-440-6700; Internet: http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5464; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2016-5464; Directorate Identifier 2015-NM-097-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On April 20, 2011, we issued AD 2011-10-01, Amendment 39-16682 (76 FR 25535, May 5, 2011). AD 2011-10-01 requires actions intended to address an unsafe condition on all Dassault Aviation Model FALCON 7X airplanes. Since we issued AD 2011-10-01, we received a revision of an ALI document, Chapter 5-40-00, Airworthiness Limitations, DGT 107838, Revision 4, dated February 2, 2015, of the Dassault Falcon 7X Maintenance Manual, which introduces new and more restrictive maintenance requirements and airworthiness limitations.

The European Aviation Safety Agency (EASA), which is the Technical Agent for the Member States of the European Union, has issued EASA Airworthiness Directive AD 2015-0095, dated May 29, 2015 (referred to after this as the Mandatory Continuing Airworthiness Information, or “the MCAI”), to correct an unsafe condition for all Dassault Aviation FALCON 7X airplanes. The MCAI states:

The airworthiness limitations and maintenance requirements for the FALCON 7X type design are included in Dassault Aviation FALCON 7X Aircraft Maintenance Manual (AMM) chapter 5-40 and are approved by EASA. To ensure accomplishment of the maintenance tasks, and implementation of the airworthiness limitations, as specified in Dassault Aviation FALCON 7X AMM chapter 5-40 original issue, including temporary revision (TR) TR-01, EASA issued AD 2008-0221 [http://ad.easa.europa.eu/ad/2008-0221].

Since that [EASA] AD was issued, Dassault Aviation issued revision 4 of the FALCON 7X AMM chapter 5-40, which introduces new and more restrictive maintenance requirements and/or airworthiness limitations.

Dassault Aviation AMM chapter 5-40 revision 4 contains, among others, the following changes:

—Fatigue and Damage tolerance airworthiness limitations,

—Miscellaneous Certification Maintenance Requirements and Airworthiness Limitation Items,

—Periodic restoration of the DC generators (this action was required by EASA AD 2009-0254) [http://ad.easa.europa.eu/ad/2009-0254],

—Functional test of the Ram Air Turbine heater (this action was required by EASA AD 2010-0033) [http://ad.easa.europa.eu/ad/2010-0233] [which corresponds to FAA AD 2011-10-01, Amendment 39-16682 (76 FR 25535, May 5, 2011)],

—Special detailed fatigue inspection of fastener holes at front spar/wing lower panel connections at RIB 26,

—Operational test of the IRS3 power supply weight-on- wheel logic,

—Inspection of the interface between wheel keys and brake inboard rotor,

—Operational test of the Horizontal Stabilizer Trim Actuator (HSTA) electrical motor reversion,

—Operational test of the HSTA trim emergency command,

—Detailed inspection of the brake heat sink.

The maintenance tasks and airworthiness limitations, as specified in the FALCON 7X AMM chapter 5-40, have been identified as mandatory actions for continued airworthiness of the FALCON 7X type design. Failure to accomplish the actions specified in AMM chapter 5-40 at revision 4 may result in an unsafe condition.

For the reasons described above, this [EASA] AD retains the requirements of EASA AD 2009-0254 and EASA AD 2010-0033, which are superseded, and requires accomplishment of the maintenance tasks and airworthiness limitations, as specified in Dassault Aviation FALCON 7X AMM chapter 5-40 at revision 4.

You may examine the MCAI in the AD docket on the Internet at http://www.regulations.gov by searching for and locating Docket No. FAA-2016-5464.

This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this proposed AD, the operator may not be able to accomplish the actions described in the revisions. In this situation, to comply with 14 CFR 91.403(c), the operator must request approval for an alternative method of compliance according to paragraph (k)(1) of this proposed AD. The request should include a description of changes to the required inspections that will ensure the continued operational safety of the airplane.

Notwithstanding any other maintenance or operational requirements, components that have been identified as airworthy or installed on the affected airplanes before accomplishing the revision of the airplane maintenance or inspection program specified in this proposed AD, do not need to be reworked in accordance with the CDCCLs. However, once the airplane maintenance or inspection program or airworthiness limitations section (ALS) has been revised as required by this proposed AD, future maintenance actions on these components must be done in accordance with the CDCCLs.

Related Service Information Under 1 CFR Part 51

Dassault Aviation issued Chapter 5-40-00, Airworthiness Limitations, DGT 107838, Revision 4, dated February 2, 2015, of the Dassault Falcon 7X Maintenance Manual, which introduces new and more restrictive maintenance requirements and airworthiness limitations for airplane structures and systems. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 45 airplanes of U.S. registry.

The actions required by AD 2011-10-01, Amendment 39-16682 (76 FR 25535, May 5, 2011), and retained in this proposed AD take about 1 work-hour per product, at an average labor rate of $85 per work-hour. Based on these figures, the estimated cost of the actions that are required by AD 2011-10-01 is $85 per product.

We also estimate that it would take about 1 work-hour per product to comply with the basic requirements of this proposed AD. The average labor rate is $85 per work-hour. Based on these figures, we estimate the cost of this proposed AD on U.S. operators to be $3,825, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-10-01, Amendment 39-16682 (76 FR 25535, May 5, 2011), and adding the following new AD:

Dassault Aviation: Docket No. FAA-2016-5464; Directorate Identifier 2015-NM-097-AD.

(a) Comments Due Date

We must receive comments by June 6, 2016.

(b) Affected ADs

This AD replaces AD 2011-10-01, Amendment 39-16682 (76 FR 25535, May 5, 2011). This AD affects AD 2014-16-23, Amendment 39-17947 (79 FR 52545, September 4, 2014).

(c) Applicability

This AD applies to Dassault Aviation Model FALCON 7X airplanes, certificated in any category, all serial numbers.

(d) Subject

Air Transport Association (ATA) of America Code 05, Time Limits/Maintenance Checks.

(e) Reason

This AD was prompted by a revision of an airworthiness limitations items (ALI) document, which introduces new and more restrictive maintenance requirements and airworthiness limitations for airplane structures and systems. We are issuing this AD to prevent reduced structural integrity and reduced control of these airplanes due to the failure of system components.

(f) Compliance

Comply with this AD within the compliance times specified, unless already done.

(g) Retained Functional Test of the Ram Air Turbine (RAT) Heater With New Terminating Action and With Specific Delegation Approval Language

This paragraph restates the requirements of paragraph (g) of AD 2011-10-01, Amendment 39-16682 (76 FR 25535, May 5, 2011), with new terminating action and with specific delegation approval language. At the applicable times specified in paragraph (g)(1) or (g)(2) of this AD, do a functional test of the RAT heater using a method approved by either the Manager, International Branch, ANM-116, Transport Airplane Directorate, FAA; or the European Aviation Safety Agency (EASA); or Dassault Aviation's EASA Design Organization Approval (DOA). Repeat the functional test of the RAT heater thereafter at the applicable time specified in paragraph (g)(1) or (g)(2) of this AD until the revision required by paragraph (h) of this AD is done. If any functional test fails, before further flight, repair using a method approved by either the Manager, International Branch, ANM-116, Transport Airplane Directorate, FAA; or EASA; or Dassault Aviation's EASA DOA.

(1) For FALCON 7X airplanes on which modification M0305 has not been done and on which Dassault Service Bulletin 7X-018, dated March 6, 2009, has not been done: Within 650 flight hours after the effective date of this AD, do a functional test of the RAT heater and repeat the functional test of the RAT heater thereafter at intervals not to exceed 650 flight hours.

(2) For FALCON 7X airplanes on which modification M0305 has been done or on which Dassault Service Bulletin 7X-018, dated March 6, 2009, has been done: Within 1,900 flight hours after June 9, 2011 (the effective date of AD 2011-10-01, Amendment 39-16682 (76 FR 25535, May 5, 2011)) or after modification M0305 or Dassault Service Bulletin 7X-018, dated March 6, 2009, has been done, whichever occurs later, do a functional test of the RAT heater. Repeat the functional test of the RAT heater thereafter at intervals not to exceed 1,900 flight hours.

Note 1 to paragraph (g) of this AD: Additional guidance for doing the functional test of the RAT heater required by paragraph (g) of this AD can be found in Task 24-50-25-720-801, Functional Test of the RAT Heater, dated January 16, 2009, of the Dassault FALCON 7X Aircraft Maintenance Manual (AMM).

(h) New Requirement of This AD: Revise the Maintenance or Inspection Program

Within 30 days after the effective date of this AD, revise the maintenance or inspection program, as applicable, by incorporating the information specified in Chapter 5-40-00, Airworthiness Limitations, DGT 107838, Revision 4, dated February 2, 2015, of the Dassault Falcon 7X Maintenance Manual (MM). The initial compliance times for the tasks specified in Chapter 5-40-00, Airworthiness Limitations, DGT 107838, Revision 4, dated February 2, 2015, of the Dassault Falcon 7X MM are at the applicable compliance times specified in Chapter 5-40-00, Airworthiness Limitations, DGT 107838, Revision 4, dated February 2, 2015, of the Dassault Falcon 7X MM, or within 30 days after the effective date of this AD, whichever occurs later.

(i) Terminating Actions

(1) Accomplishment of the revision required by paragraph (h) of this AD terminates the requirements of paragraph (g) of this AD.

(2) Accomplishment of the revision required by paragraph (h) of this AD terminates the requirements of paragraph (q) of AD 2014-16-23, Amendment 39-17947 (79 FR 52545, September 4, 2014).

(j) No Alternative Actions, Intervals, and/or Critical Design Configuration Control Limitations (CDCCLs)

After the maintenance or inspection program, as applicable, has been revised as required by paragraph (h) of this AD, no alternative actions (e.g., inspections), intervals, and/or CDCCLs may be used unless the actions, intervals, and/or CDCCLs are approved as an alternative method of compliance (AMOC) in accordance with the procedures specified in paragraph (k)(1) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov.

(2) Contacting the Manufacturer: For any requirement in this AD to obtain corrective actions from a manufacturer, the action must be accomplished using a method approved by the Manager, International Branch, ANM-116, Transport Airplane Directorate, FAA; or EASA; or Dassault Aviation's EASA DOA. If approved by the DOA, the approval must include the DOA-authorized signature.

(l) Related Information

(1) Refer to Mandatory Continuing Airworthiness Information (MCAI) EASA AD 2015-0095, dated May 29, 2015, for related information. You may examine the MCAI on the Internet at http://www.regulations.gov by searching for and locating Docket No. FAA-2016-5464.

(2) For service information identified in this AD, contact Dassault Falcon Jet Corporation, Teterboro Airport, P.O. Box 2000, South Hackensack, NJ 07606; telephone: 201-440-6700; Internet: http://www.dassaultfalcon.com. You may view this service information at the FAA, Transport Airplane Directorate, 1601 Lind Avenue SW., Renton, WA. For information on the availability of this material at the FAA, call 425-227-1221.

Issued in Renton, Washington, on April 13, 2016.
Victor Wicklund,
Acting Manager, Transport Airplane Directorate, Aircraft Certification Service.

[FR Doc. 2016-09005 Filed 4-19-16; 8:45 am]

BILLING CODE 4910-13-P